DEPARTMENT OF THE INTERIOR

Fish and Wildlife Service

[FWS-R3-ES-2021-N184; FXES11130300000-201-FF03E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before September 22, 2021.

ADDRESSES: Document availability and comment submission: Submit requests for copies of the applications and related documents, as well as any comments, by one of the following methods. All requests and comments should specify the applicant name(s) and application number(s) (e.g., TEXXXXXX; see table in SUPPLEMENTARY INFORMATION):

• Email: permitsR3ES@fws.gov. Please refer to the respective application number (e.g., Application No. TEXXXXXX) in the subject line of your email message.

• U.S. Mail: Regional Director, Attn: Nathan Rathbun, U.S. Fish and Wildlife Service, Ecological Services, 5600 American Blvd. West, Suite 990, Bloomington, MN 55437-1458.

FOR FURTHER INFORMATION CONTACT: Nathan Rathbun, 612-713-5343 (phone); permitsR3ES@fws.gov (email). Individuals who are hearing or speech impaired may call the Federal Relay Service at 1-800-877-8339 for TTY assistance.

SUPPLEMENTARY INFORMATION:

Background

The Endangered Species Act of 1973, as amended (ESA; 16 U.S.C. 1531 et seq.), prohibits certain activities with endangered and threatened species unless authorized by a Federal permit. The ESA and our implementing regulations in part 17 of title 50 of the Code of Federal Regulations (CFR) provide for the issuance of such permits and require that we invite public comment before issuing permits for activities involving endangered species.

A recovery permit issued by us under section 10(a)(1)(A) of the ESA authorizes the permittee to conduct activities with endangered species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications:

Application No. | Applicant | Species | Location | Activity | Type of take | Permit action
PER0016072 | Brittany Rogness, Urbana, IL | Indiana bat (Myotis sodalis), gray bat (Myotis grisescens), northern long-eared bat (M. septentrionalis) | IL, IN, IA, KS, MI, MN, MO, WV, WI | Conduct presence/absence surveys, document habitat use, conduct population monitoring, evaluate impacts | Capture, handle, harp trap, mist-net, band, collect tissue samples, radio-tag, enter hibernacula, release | New.
ES95228C | Terry VanDeWalle, Brandon, IA | Add: New species—Rusty patched bumble bee (Bombus affinis)—to existing authorized species: Eastern Massasauga (Sistrurus catenatus) | IL, IN, IA, MI, MN, MO, WI | Conduct presence/absence surveys, document habitat use, conduct population monitoring, evaluate impacts | Capture, handle, temporary hold, release | Amend.
ES72093B | Rebecca Winterringer, Euclid, OH | 34 freshwater mussel species | Add: New location—KS—to existing authorized locations: AL, AR, IL, IN, IA, KY, LA, MD, MI, MN, MS, MO, NJ, NY, NC, OK, OH, PA, TN, VA, WV, WI | Conduct presence/absence surveys, document habitat use, conduct population monitoring, evaluate impacts | Capture, handle, temporary hold, release | Amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Lori Nordstrom,
Assistant Regional Director, Ecological Services.

[FR Doc. 2021-17995 Filed 8-20-21; 8:45 am]

BILLING CODE 4333-15-P